DEPARTMENT OF ENERGY

Federal Energy Regulatory Commission

Combined Notice of Filings #1

Take notice that the Commission received the following electric corporate filings:

Docket Numbers: EC23-5-000.

Applicants: Energy Harbor Generation LLC.

Description: Joint Application for Authorization Under Section 203 of the Federal Power Act of Energy Harbor Generation LLC, et al.

Filed Date: 10/11/22.

Accession Number: 20221011-5392.

Comment Date: 5 p.m. ET 11/1/22.

Take notice that the Commission received the following exempt wholesale generator filings:

Docket Numbers: EG23-8-000.

Applicants: EnerSmart Mesa Heights BESS LLC.

Description: EnerSmart Mesa Heights BESS LLC submits Notice of Self-Certification of Exempt Wholesale Generator Status.

Filed Date: 10/11/22.

Accession Number: 20221011-5361.

Comment Date: 5 p.m. ET 11/1/22.

Take notice that the Commission received the following electric rate filings:

Docket Numbers: ER17-1394-006.

Applicants: 83WI 8me, LLC.

Description: Triennial Market Power Analysis for Southwest Region and Notice of Non-Material Change in Status of 83WI 8me, LLC.

Filed Date: 10/7/22.

Accession Number: 20221007-5203.

Comment Date: 5 p.m. ET 12/6/22.

Docket Numbers: ER21-1111-000; ER21-1112-000; ER21-1114-000; ER21-1115-000; ER21-1116-000; ER21-1117-000; ER21-1118-000; ER21-1119-000; ER21-1120-000; ER21-1121-000; ER21-1125-000; ER21-1128-000.

Applicants: Dominion Energy South Carolina, Inc., Alabama Power Company, Mississippi Power Company, Kentucky Utilities Company, Georgia Power Company, Louisville Gas and Electric Company, Duke Energy Progress, LLC, Duke Energy Carolinas, LLC, Duke Energy Progress, LLC, Duke Energy Carolinas, LLC, Louisville Gas and Electric Company, Dominion Energy South Carolina, Inc., Alabama Power Company.

Description: The Southeast Energy Exchange Market Members notify the Federal Energy Regulatory Commission of the commencement of operations of the Southeast Energy Exchange Market, which will occur on November 9, 2022.

Filed Date: 10/7/22.

Accession Number: 20221007-5208.

Comment Date: 5 p.m. ET 10/28/22.

Docket Numbers: ER22-1697-001.

Applicants: Southwest Power Pool, Inc.

Description: Compliance filing: Response to August 12 Letter—Order No. 2222 Compliance Filing to be effective N/A.

Filed Date: 10/12/22.

Accession Number: 20221012-5036.

Comment Date: 5 p.m. ET 11/2/22.

Docket Numbers: ER23-66-000.

Applicants: Baron Winds LLC.

Description: Baseline eTariff Filing: Application for Market Based Rate Authorization to be effective 12/5/2022.

Filed Date: 10/11/22.

Accession Number: 20221011-5371.

Comment Date: 5 p.m. ET 11/1/22.

Docket Numbers: ER23-67-000.

Applicants: Fluent Energy Corporation.

Description: Notice of Cancellation of Market Based Rate Tariff of New York Industrial Energy Buyers, LLC.

Filed Date: 10/7/22.

Accession Number: 20221007-5204.

Comment Date: 5 p.m. ET 10/28/22.

Docket Numbers: ER23-68-000.

Applicants: PJM Interconnection, L.L.C.

Description: § 205(d) Rate Filing: Amendment to ISA, SA No. 1949; Queue No. NQ16 (amend) to be effective 4/17/2008.

Filed Date: 10/12/22.

Accession Number: 20221012-5034.

Comment Date: 5 p.m. ET 11/2/22.

Docket Numbers: ER23-69-000.

Applicants: Southwest Power Pool, Inc.

Description: § 205(d) Rate Filing: Lincoln Electric System Revisions to Formula Rate Protocols to be effective 12/12/2022.

Filed Date: 10/12/22.

Accession Number: 20221012-5035.

Comment Date: 5 p.m. ET 11/2/22.

Docket Numbers: ER23-70-000.

Applicants: Tri-State Generation and Transmission Association, Inc.

Description: § 205(d) Rate Filing: Amendment to Service Agreement FERC No. 826 to be effective 9/13/2022.

Filed Date: 10/12/22.

Accession Number: 20221012-5064.

Comment Date: 5 p.m. ET 11/2/22.

Docket Numbers: ER23-71-000.

Applicants: Buena Vista Energy Center, LLC.

Description: Baseline eTariff Filing: Buena Vista Energy Center LLC—Application for Market-Based Rate Authorization to be effective 10/31/2022.

Filed Date: 10/12/22.

Accession Number: 20221012-5080.

Comment Date: 5 p.m. ET 11/2/22.

Docket Numbers: ER23-72-000.

Applicants: Omaha Public Power District, Southwest Power Pool, Inc.

Description: § 205(d) Rate Filing: Omaha Public Power District submits tariff filing per 35.13(a)(2)(iii: Omaha Public Power District Revisions to Formula Rate Protocols to be effective 12/12/2022.

Filed Date: 10/12/22.

Accession Number: 20221012-5099.

Comment Date: 5 p.m. ET 11/2/22.

Docket Numbers: ER23-73-000.

Applicants: Nassau Energy, LLC.

Description: Tariff Amendment: Notice of Cancellation of FERC Electric Market-Based Rate Tariff to be effective 10/13/2022.

Filed Date: 10/12/22.

Accession Number: 20221012-5151.

Comment Date: 5 p.m. ET 11/2/22.

Docket Numbers: ER23-74-000.

Applicants: ISO New England Inc., New England Power Pool Participants Committee.

Description: § 205(d) Rate Filing: ISO New England Inc. submits tariff filing per 35.13(a)(2)(iii: ISO-NE/NEPOOL; Change to Defer and Modify FCM Parameters Recalculation Schedule to be effective 12/12/2022.

Filed Date: 10/12/22.

Accession Number: 20221012-5152.

Comment Date: 5 p.m. ET 11/2/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2022.
Debbie-Anne A. Reese,
Deputy Secretary.

[FR Doc. 2022-22586 Filed 10-17-22; 8:45 am]

BILLING CODE 6717-01-P